DEPARTMENT OF ENERGY

Federal Energy Regulatory Commission

[Docket No. RP06-391-000]

USGen New England, Inc.; Notice of Petition for Declaratory Order

June 15, 2006.

Take notice that on June 14, 2006, USGen New England, Inc. (USGen), filed a petition for a declaratory order pursuant to Rule 207 of the Commission's Rules and Regulations (18 CFR 385.207) declaring that (1) USGen is not contractually precluded from filing a Section 5 complaint against Tennessee Gas Pipeline Company (Tennessee) challenging the reasonableness of its rates and fuel charges; and (2) Tennessee's tariff does not address the calculation of damages or mitigation of damages arising from a breach by a shipper, and state law consequently governs the determination of the mitigation of damages in the event of a breach.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 30, 2006.

Magalie R. Salas,
Secretary.

[FR Doc. E6-9812 Filed 6-21-06; 8:45 am]

BILLING CODE 6717-01-P